DEPARTMENT OF THE TREASURY

Office of the Secretary

List of Countries Requiring Cooperation With an International Boycott

In order to comply with the mandate of section 999(a)(3) of the Internal Revenue Code of 1986, the Department of the Treasury is publishing a current list of countries which require or may require participation in, or cooperation with, an international boycott (within the meaning of section 999(b)(3) of the Internal Revenue Code of 1986).

On the basis of the best information currently available to the Department of the Treasury, the following countries require or may require participation in, or cooperation with, an international boycott (within the meaning of section 999(b)(3) of the Internal Revenue Code of 1986): Kuwait, Lebanon, Libya, Qatar, Saudi Arabia, Syria, United Arab Emirates, and Republic of Yemen.

Bahrain and Oman have been removed from this list due to actions taken by their respective governments. Iraq is not included in this list, but its status with respect to future lists remains under review by the Department of the Treasury.

Dated: June 30, 2006.
Harry J. Hicks III,
International Tax Counsel (Tax Policy).

[FR Doc. 06-6032 Filed 7-6-06; 8:45 am]

BILLING CODE 4810-25-M